DEPARTMENT OF ENERGY

[OE Docket No. PP-481-1]

Application To Amend Presidential Permit; CHPE, LLC

AGENCY: Office of Electricity, Department of Energy.

ACTION: Notice of application.

SUMMARY: CHPE, LLC (the Applicant) has filed an application to amend Presidential Permit No. PP-481. CHPE, LLC is requesting the amendment to allow for certain modifications to the previously permitted route.

DATES: Comments, protests, or motions to intervene must be submitted on or before November 4, 2020.

ADDRESSES: Comments or motions to intervene should be addressed to Christopher Lawrence, Christopher.Lawrence@hq.doe.gov.

FOR FURTHER INFORMATION CONTACT: Christopher Lawrence (Program Office) at 202-586-5260 or by email to Christopher.Lawrence@hq.doe.gov, or Christopher Drake (Attorney-Adviser) at 202-586-2919 or by email to Christopher.Drake@hq.doe.gov.

SUPPLEMENTARY INFORMATION:

The construction, operation, maintenance, and connection of facilities at the international border of the United States for the transmission of electric energy between the United States and a foreign country is prohibited in the absence of a Presidential permit issued pursuant to Executive Order (E.O.) 10485, as amended by E.O. 12038.

On September 25, 2020, CHPE, LLC filed an application with the Office of Electricity of the Department of Energy (DOE), as required by regulations at 10 CFR 205.320 et seq., requesting that DOE amend Presidential Permit No. PP-481 to allow for changes in the route previously permitted.

On October 6, 2014, DOE issued Presidential Permit No. PP-362, authorizing Champlain Hudson Power Express, Inc. (CHPEI) to construct, operate, maintain, and connect the Champlain Hudson Power Express Project (Project). As described in PP-362, the Project is a 1,000-megawatt (MW), high-voltage direct current (HVDC), underground and underwater merchant transmission system that will cross the United States-Canada international border underwater near the Town of Champlain, New York, extend approximately 336 miles south through New York State, and interconnect to facilities located in Queens County, New York, owned by the Consolidated Edison Company of New York. The aquatic segments of the transmission line will primarily be buried in sediments of Lake Champlain and the Hudson, Harlem, and East rivers. The terrestrial portions of the transmission line will primarily be buried within existing road and railroad rights-of-way (ROW). On July 21, 2020, DOE issued Presidential Permit PP-481 transferring the facilities authorized in PP-362 to CHPE, LLC at the request of CHPEI and CHPE, LLC.

Since the issuance of PP-362 in 2014, the Applicant, in consultation with various stakeholders, has developed certain modifications to the permitted Project route, including relocating the site of the Project converter station. See Application of CHPE, LLC for Amendment to Presidential Permit (App.), at 3 (Sept. 25, 2020). The eight (8) proposed route modifications would lengthen the Project by approximately 5.1 linear miles, an increase of less than 2%. See id. The Applicant has also identified a construction method claimed to reduce environmental impacts. See id.

According to the Applicant, “[t]hese proposed changes are principally driven by engineering, environmental, and landowner/stakeholder considerations that have been identified as the Applicant has refined the design of the Project.” App. at 3. “Among other things,” the Applicant asserts that “the proposed changes would avoid shallow water related engineering challenges, reduce rock removal and wetland impacts, eliminate disruption to downtown activities within the City of Schenectady, forego reliance on an aging railroad bridge, accommodate community concerns, [and] avoid recently constructed infrastructure,” as well as “optimiz[e] the design of the converter station and the connection to existing electrical facilities.” Id. at 3-4.

Procedural Matters: Any person may comment on this application by filing such comment at the address provided above. Any person seeking to become a party to this proceeding must file a motion to intervene at the address provided above in accordance with Rule 214 of FERC's Rules of Practice and Procedure (18 CFR 385.214). Each comment or motion to intervene should be filed with DOE on or before the date listed above.

Comments and other filings concerning this application should be clearly marked with OE Docket No. PP-481-1. Additional copies are to be provided directly to Mr. Donald Jessome, Chief Executive Officer, Transmission Developers Inc., Pieter Schuyler Building, 600 Broadway, Albany, New York 12207-2283, donald.jessome@transmissiondevelopers.com and Jay Ryan, Baker Botts LLP, 700 K Street NW, Washington, DC 20001, jay.ryan@bakerbotts.com.

Before a Presidential permit may be issued or amended, DOE must determine that the proposed action is in the public interest. In making that determination, DOE will consider the environmental impacts of the proposed action (i.e., granting the Presidential permit or amendment, with any conditions and limitations, or denying the permit), determine the proposed project's impact on electric reliability by ascertaining whether the proposed project would adversely affect the operation of the U.S. electric power supply system under normal and contingency conditions, and weigh any other factors that DOE may also consider relevant to the public interest. DOE also must obtain the favorable recommendation of the Secretary of State and the Secretary of Defense before taking final action on a Presidential permit application.

This application may be reviewed or downloaded electronically at http://energy.gov/oe/services/electricity-policy-coordination-and-implementation/international-electricity-regulatio-2. Upon reaching the home page, select “Pending Applications.”

Signed in Washington, DC, on September 29, 2020.
Christopher Lawrence,
Management and Program Analyst, Transmission Permitting and Technical Assistance, Office of Electricity.

[FR Doc. 2020-21936 Filed 10-2-20; 8:45 am]

BILLING CODE 6450-01-P